DEPARTMENT OF THE INTERIOR

Bureau of Indian Affairs

Seminole Tribe of Florida Alcohol Beverage Control Act of 2009

AGENCY: Bureau of Indian Affairs, Interior.

ACTION: Notice.

SUMMARY: This notice publishes the Amended Seminole Tribe of Florida Alcohol Beverage Control Act of 2009, Ordinance No. C-01-09. The Amended Ordinance regulates and controls the possession, sale, and consumption of liquor within the tribal lands. The last amendment to the liquor ordinance was published in 60 FR 53431. The tribal lands are located in Indian country and this Amended Ordinance allows for possession and sale of alcoholic beverages within their boundaries. The Amended Ordinance contains provisions requiring the Tribe to issue licenses to all businesses that intend to sell liquor and it requires proof that the applicant for a liquor license is licensed by the State of Florida to sell alcoholic beverages as well. This Amended Ordinance will increase the ability of the tribal government to control the community's liquor distribution and possession, and at the same time will provide an important source of revenue for the continued operation and strengthening of the tribal government and the delivery of tribal services.

DATES: Effective Date: This Amended Ordinance is effective on September 7, 2010.

FOR FURTHER INFORMATION CONTACT: Chanda Joseph, Tribal Government Services Officer, Eastern Regional Office, 545 Marriott Drive, Suite 700, Nashville, TN 37214, Telephone: (615) 564-6750, Fax (615) 564-6552; or Elizabeth Colliflower, Office of Indian Services, 1849 C Street, NW., Mail Stop 4513-MIB, Washington, DC 20240, Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Tribal Council of the Seminole Tribe of Florida adopted its Amended Alcohol Beverage Control Act by Resolution on June 18, 2009. The purpose of Amended Ordinance No. C-01-09 is to govern the sale, possession, and distribution of alcohol within tribal lands of the Tribe.

This notice is published in accordance with the authority delegated by the Secretary of the Interior to the Assistant Secretary—Indian Affairs. I certify that the Tribal Council of the Seminole Tribe of Florida adopted its Alcohol Beverage Control Act of 2009, Ordinance No. C-01-09 on June 18, 2009.

Dated: July 29, 2010.
Larry Echo Hawk,
Assistant Secretary—Indian Affairs.

The Alcohol Beverage Control Act of the Seminole Tribe of Florida reads as follows:

Seminole Tribe of Florida Alcohol Beverage Control Act of 2009

Seminole Tribe of Florida Hollywood, Florida

An Ordinance Relating to the Application of the Federal Liquor Laws on the Florida Seminole Reservations and Trust Lands.

Whereas, the Seminole Tribe of Florida, is an organized Indian Tribe as defined in Section 16 of the Act of June 18, 1934 (48 Stat. 984) as amended by the Act of June 15, 1935 (49 Stat. 378); and

Whereas, Public Law 277, 83rd Congress, approved August 15, 1953, provides that Sections 1154, 1156, 3113, 3488, and 3618 of Title 18, United States Code, as amended by Public Law No. 98-473, Section 223(b) replacing Section 3618 of Title 18 with Section 3669, commonly referred to as the Federal Indian Liquor Laws, shall not apply to any act or transaction within any area of Indian country provided such act or transaction is in conformity with both the laws of the State in which such act or transaction occurs, and with an ordinance duly adopted by the Tribe having jurisdiction over such area of Indian country certified by the Secretary of the Interior and published in the Federal Register.

Now Therefore Be It Ordained: By the Tribal Council of the Seminole Tribe of Florida that the provisions of this Ordinance shall apply on all Seminole Lands, as defined herein:

Section I. Introduction.

101. Title. This Ordinance shall be known as the “Seminole Tribe of Florida Alcohol Beverage Control Act, herein after referred to as the “Ordinance”.

102. Authority. This Ordinance is enacted pursuant to the Act of August 15, 1953 (Pub. L. 83-277, and 67 Stat. 588, 18 U.S.C. section 1161) and the Constitution of the Seminole Tribe of Florida approved on July 11, 1957 and ratified on August 21, 1957 and applicable laws.

103. Purpose. The purpose of this Ordinance is to regulate and control the sale or possession of Alcoholic Beverages, as defined herein, within Seminole Lands.

104. Tribal Jurisdiction. The sale Alcoholic Beverages shall be lawful within Seminole Lands, provided that such sale is in conformity with the laws of the State of Florida and the provisions of this Ordinance.

Section II. Definitions.

As used in this Ordinance, the following words shall have the following meanings unless the context clearly requires otherwise:

201. “Alcoholic Beverage” means distilled spirits and all beverages containing one-half of one percent or more alcohol by volume. The percentage of alcohol by volume shall be determined by measuring the volume of standard ethyl alcohol in the beverage and comparing it with the volume of the remainder of the ingredients as though the remainder of the ingredients were distilled water.

202. “Entertainment Zone” means the areas designated pursuant to Paragraph 402 where alcoholic beverages may be dispensed or sold up to 24 hours per day, 7 days per week.

203. “Tribal Council” means the Tribal Council of the Seminole Tribe of Florida.

204. “Seminole Lands” means land legally titled in the name of the United States of America in trust for the Seminole Tribe of Florida, whether or not the same is in reservation status, as well as fee lands acquired by or for the Tribe and placed under the jurisdiction of the Tribe.

205. “Distilled Spirits” mean that substance known as ethyl alcohol, ethanol, or spirits of wine in any form, including all dilutions and mixtures thereof from whatever source or by whatever process produced.

206. “Principal Owner” with respect to a corporation or other legal entity shall refer to and mean any person or entity which, directly or indirectly, owns or controls a majority of shares or a controlling interest in any entity making application for an alcoholic beverage license or which will have operational control over the day to day operations of the applicant's business.

207. “Sale” and “Sell” means the exchange, barter, and traffic of Alcoholic Beverages by any person to any person.

208. “Tribe” means the Seminole Tribe of Florida.

209. “Person” means any natural person or business entity or organization.

Section III. Powers of Enforcement.

301. Powers and Duties Tribal Council. The Tribal Council, in furtherance of this Ordinance shall have the following powers and duties:

a. To employ managers, accountants, security personnel, inspectors, and such other persons as shall be reasonably necessary to allow the Tribal Council to perform its functions under this Ordinance;

b. To approve licenses permitting the sale of Alcoholic Beverages on Seminole Lands; and

c. To hold hearings on violations of this Ordinance.

302. Powers and Duties Tribal Beverage Inspector (Environmental Health Officer). The enforcement of this Ordinance and violations thereof as set forth in Section VI of this Ordinance shall be as follows:

a. The Tribal Beverage Inspector/Environmental Health Officer may inspect the premises on which Alcoholic Beverages are sold or distributed at any time during open business hours for the purposes of ascertaining whether this Ordinance is being followed.

b. The Environmental Health Officer shall be empowered to issue citations for violations of this Ordinance.

c. Real Estate Services Department shall be empowered to suspend any License upon notice of a violation by the Environmental Health Officer for which it is deemed appropriate to suspend the sale and service of alcoholic beverages.

d. The Real Estate Services Department shall prepare Tribal Council resolutions and include background information regarding violations of this Ordinance for consideration regarding reinstatement of suspended licenses or revocation thereof.

Section IV. Sales of Alcoholic Beverages.

Licenses Required. Sale of Alcoholic Beverages on Seminole Lands shall only be permitted by a holder of a license issued hereunder and at the licensed premises or by the Tribe at a location owned or operated by the Tribe.

401. Regulated Hours for the Sale of Alcoholic Beverages. Except as provided in Entertainment Zones established hereunder, alcoholic beverages may not be sold other than during approved hours prescribed and established by the Tribal Council.

402. The following areas are established as Entertainment Zones where alcoholic beverages may be sold up to 24 hours per day, 7 days per week:

a. Hollywood Reservation—the premises commonly known as the Seminole Hard Rock Hotel & Casino—Hollywood, Seminole Paradise and the Seminole Indian Casino—Hollywood.

b. Tampa Reservation—the premises commonly known as the Seminole Hard Rock Hotel & Casino—Tampa.

c. Brighton Reservation—the premises commonly known as the Seminole Indian Casino—Brighton.

d. Big Cypress Reservation—the premises commonly known as the Seminole Indian Casino—Big Cypress.

e. Immokalee Reservation—the premises commonly known as the Seminole Indian Casino—Immokalee.

f. Coconut Creek Trust Property—That portion of the premises commonly known as the Seminole Indian Casino—Coconut Creek which is situated on Seminole Lands.

Section V. Licensing.

501. Tribal Alcoholic Beverage License Requirements. No Tribal license shall be issued under this Ordinance except upon a sworn application filed with the Tribe's Real Estate Services Department containing a full and complete showing of the following:

a. Proof satisfactory to the Tribal Council that the applicant is not an officer or member of the Tribal Council or the Board of Directors of the Seminole Tribe of Florida, Inc.;

b. Satisfactory proof that the applicant is duly licensed by the State of Florida to sell alcoholic beverages;

c. Satisfactory proof, including a background check as conducted by the Tribe, that the applicant is of good character and reputation and that the applicant is financially responsible;

d. the description of the premises in which the Alcoholic Beverages are to be sold and proof that the applicant has the right of occupancy of such premises for at least the term of the license;

e. Agreement by the applicant to accept and abide by all conditions of the Ordinance;

f. Payment of a non-refundable fee established from time to time by the Tribal Council. The initial fee shall be $250.00, but can be changed by Tribal Council resolution at any time;

g. Satisfactory proof that neither the applicant, nor the applicant's spouse, nor any Principal Owner, officer, shareholder, or director of the applicant, if an entity, has ever been convicted of a felony or a crime of moral turpitude as defined by the laws of the State of Florida.

502. Hearing on Application for Tribal Alcoholic Beverage License. All applications for a Tribal Alcoholic Beverage License shall be considered by the Tribal Council in open session at which the applicant and any person protesting the application shall have the right to be present, and to offer sworn oral or documentary evidence relevant to the application. After the hearing, the Tribal Council, by majority vote, shall determine whether to grant or deny the application based on: (1) Whether the requirements of Section 501 have been met; and (2) whether the Tribal Council, at its sole discretion, determines that granting the license is in the best interest of the Tribe. In the event that the applicant is a member of the immediate family of a Tribal Council member, such Tribal Council member shall not vote on the application as a Tribal Council member.

503. License Types.

a. Annual—Other than Special Event Permits, the license shall be issued for a term not to exceed one (1) year and shall terminate on March 31 of each year.

b. Special Event Permits—the Tribal Council or their designee may grant a temporary permit for the sale of Alcoholic Beverages for a period not to exceed three (3) days to any person applying to the same in connection with a Tribal or community activity, provided that the conditions prescribed in Section 504 of this Ordinance shall be observed by the permittee. Each permit issued shall specify the types of alcoholic beverages to be sold. Further, a fee of $50.00 will be assessed on temporary permits, which fee shall be subject to change by Tribal Council resolution.

504. Conditions of the Tribal Alcoholic Beverage License. Any Tribal Alcoholic Beverage license issued under this Ordinance shall be subject to such reasonable conditions as the Tribal Council shall fix including but not limited to the following:

a. The licensee shall at all times maintain an orderly, clean, and neat establishment, both inside and outside the licensed premises.

b. The licensed premises shall be subject to inspection by Tribal Beverage Inspector/Environmental Health Officer and such other law enforcement officials as may be authorized by applicable law and open to inspection by authorized Tribal officials at all times when alcoholic beverages are being served.

505. License Not a Property Right. Notwithstanding any other provision of this Ordinance, a Tribal Alcoholic Beverage license is a mere permit for a fixed duration of time. A Tribal Alcoholic Beverage license shall not be deemed a property right or vested right of any kind, nor shall the granting of said license give rise to a presumption of legal entitlement to a license/permit in a subsequent time period.

506. Assignment or Transfer. No Tribal Alcoholic Beverage issued under this Ordinance shall be assigned or transferred.

Section VI. Rules Regulations and Violations.

601. The violations under this Ordinance and the penalties for such violations are set forth on the Table of Violations and Penalties which is attached and made a part hereof by reference.

Section VII. License Fees.

701. Disposition of Fees. The fees collected by the Tribal Council from all licensing provided for under this Ordinance, or the imposition of civil penalties for violating this Ordinance shall be payable to the Seminole Tribe of Florida for deposit to the general fund of the Tribe in the Tribe's usual depository.

Section VIII. Severability and Miscellaneous.

801. Prior Enactments. Any and all prior ordinances, resolutions or enactments of the Tribal Council which are inconsistent with the provisions of this Ordinance shall be deemed repealed as of the Effective Date of this Ordinance.

802. Effective Date. This amended Ordinance becomes effective 30 days after the Secretary of the Interior certifies the Ordinance and publishes it in the Federal Register.

803. Sovereign Immunity. Nothing contained in this Ordinance is intended to in any way limit, alter, restrict, or waive the Tribe's sovereign immunity from unconsented suit or action.

Tables of Violations and Penalties
Violation | Florida statute reference | 1st Occurrence | 2nd Occurrence | 3rd Occurrence | 4th Occurrence
Licensee not qualified to be issued an alcoholic beverage license | Florida Statute Sections 561.15(3) and 561.29(f) and (g) | Revocation
Failing to file required application | Florida Statute Sections 561.01(10), 561.17, 561.33, and 569.003 | $500 | $1000 | Revocation
Failure to meet minimum qualifications of special license or special events license | Florida Statute Section 561.20 | $1000 and revocation without prejudice to obtain any other type of license, but with prejudice to obtain the same type of special license for 5 years.
Maintaining a nuisance on the licensed premises | Florida Statute Section 561.29(1)(c) | Revocation
Maintaining a premise that is unsanitary | Florida Statute Section 561.29(1)(d) | Revocation
Unlawful transfer of ownership of license | Florida Statute Section 561.32(4) | Revocation
Possession of beverages not permitted to be sold under license | Florida Statute Section 562.02 | $1000 | $2000 | $4000 | Revocation.
Sale off the licensed premises | Florida Statute Section 562.06 | $500 | $1000 | $2000 | Revocation.
Misrepresentation of alcoholic beverages | Florida Statute Section 561.061 | $1000 and a 20-day license suspension | Revocation
Sale, giving or serving alcoholic beverages to persons under the age of 21 or allowing them to consume alcoholic beverages | Florida Statute Section 562.11 | $1000 and a 7-day license suspension | $3000 and a 30-day license suspension | Revocation
Selling alcoholic beverages in a manner not permitted by license or with expired license | Florida Statute Section 562.12 | $500 or an amount equal to the correct license fee, whichever is greater | $1000 or an amount equal to the correct license fee, whichever is greater | $2000 | Revocation.
Conspiracy to violate the Tribe's Ordinance | Florida Statute Section 562.23 | $1000 | Revocation
Refusing to admit authorized law enforcement officers or division or tribal employees to licensed premises | Florida Statute Section 562.41(3) | $1000 | Revocation
Forcefully obstructing a tribal, division employee or law enforcement officer | Florida Statute Section 562.41(4) | $1000 and a 30-day suspension | Revocation
Selling or serving alcoholic beverages after notice to close | Florida Statute Section 562.454 | Revocation
Adulterating liquor | Florida Statute Section 562.455 | Revocation
Furnishing alcoholic beverages after notice to persons habitually addicted | Florida Statute Section 562.50 | $1000 and 7-day suspension | $2000 and 30-day suspension | Revocation
Discrimination in service of alcoholic beverages | Florida Statute Section 562.51 | $1000 | $2000 and a 20-day license suspension | $4000 and a 30-day license suspension | Revocation.
Prostitution; Lewd and lascivious conduct on premises | Florida Statute Chapter 796 | $1000 | Revocation
Worthless check | Florida Statute Section 832.05 | No future personal checks to Tribe for 3 years | 20-day suspension and no future personal check to Tribe | Revocation
Perjury | Florida Statute Chapter 837 | Revocation
False information on application | Florida Statute Section 559.791 | Revocation
Unlawful gambling | Florida Statute Chapter 849 | $250 per | $500 | $1000 | Revocation.
Failure to maintain active state license |  | Suspension for period of time during which state licensure inactive |  |  | Revocation.

[FR Doc. 2010-19282 Filed 8-4-10; 8:45 am]

BILLING CODE 4310-4J-P